DEPARTMENT OF THE INTERIOR

National Park Service

[NPS-WASO-NAGPRA-NPS0039773; PPWOCRADN0-PCU00RP14.R50000]

Notice of Inventory Completion: U.S. Department of the Interior, Bureau of Land Management, Utah State Office, Salt Lake City, UT, and U.S. Department of the Interior, Bureau of Reclamation, Upper Colorado Basin Region, Salt Lake City, UT

AGENCY: National Park Service, Interior.

ACTION: Notice.

SUMMARY: In accordance with the Native American Graves Protection and Repatriation Act (NAGPRA), the U.S. Department of the Interior, Bureau of Land Management, Utah State Office (BLM) and U.S. Department of the Interior, Bureau of Reclamation, Upper Colorado Basin Region (Reclamation) have completed an inventory of human remains and associated funerary objects and have determined that there is a cultural affiliation between the human remains and associated funerary objects and Indian Tribes or Native Hawaiian organizations in this notice. The human remains and associated funerary objects were removed from the Glen Canyon area of San Juan County, UT, Garfield County, UT, and Kane County, UT, and are in the custody of the Utah Museum of Natural History, University of Utah, Salt Lake City, UT, the American Museum of Natural History, New York, NY, and the Museum of Northern Arizona, Flagstaff, AZ.

DATES: Repatriation of the human remains and associated funerary objects in this notice may occur on or after April 28, 2025.

ADDRESSES: Diana Barg, U.S. Department of the Interior, Bureau of Land Management, Utah State Office, 440 W 200 S, Suite 500, Salt Lake City, UT 84101, telephone (801) 539-4214, email dbarg@blm.gov and Zachary Nelson, U.S. Department of the Interior, Bureau of Reclamation, Upper Colorado Basin Region, 125 South State Street, Room 8100, Salt Lake City, UT 84138, telephone (801) 379-1164, email znelson@usbr.gov.

SUPPLEMENTARY INFORMATION: This notice is published as part of the National Park Service's administrative responsibilities under NAGPRA. The determinations in this notice are the sole responsibility of the BLM and Reclamation, and additional information on the determinations in this notice, including the results of consultation, can be found in the inventory or related records. The National Park Service is not responsible for the determinations in this notice.

BLM and Reclamation acknowledge the deep and abiding connection Indian Tribes throughout the region have to Glen Canyon, which was unfortunately omitted in the 2019 Federal Register Notices [84 FR 2922, February 8, 2019, and 84 FR 2917, February 8, 2019]. Before publication, the following Indian Tribes shared with Reclamation information regarding their cultural affiliation with the Ancestors from this place: Havasupai Tribe of the Havasupai Reservation, Arizona; Hopi Tribe of Arizona; Hualapai Indian Tribe of the Hualapai Indian Reservation, Arizona; Kaibab Band of Paiute Indians of the Kaibab Indian Reservation, Arizona; Navajo Nation, Arizona, New Mexico, & Utah; Ohkay Owingeh, New Mexico; Paiute Indian Tribe of Utah; Pueblo of Jemez, New Mexico; Pueblo of Pojoaque, New Mexico; Pueblo of Santa Ana, New Mexico; Pueblo of Santa Clara, New Mexico; Pueblo of Zia, New Mexico; Southern Ute Indian Tribe of the Southern Ute Reservation, Colorado; Ute Mountain Ute Tribe; and the Zuni Tribe of the Zuni Reservation, New Mexico.

Abstract of Information Available

Human remains representing, at least, one individual were removed from site 42GA553 in Garfield County, Utah. No associated funerary objects are present. The University of Utah exhumed the individual in 1962 as part of the Upper Colorado River Basin Archeological Survey Project (UCRBASP) during an excavation paid for by Reclamation on land managed by BLM.

Human remains representing, at least, 11 individuals were removed from site 42SA681 (Rehab Center) in San Juan County, Utah. The 47 associated funerary objects are eight textile fragments, 29 pieces of cordage, one bundle of cordage, five soil impressions, three baskets, and one bead. The University of Utah exhumed the individuals and associated funerary objects in 1961 as part of the UCRBASP during an excavation paid for by Reclamation on land managed by BLM.

Human remains representing, at least, seven individuals were removed from site 42SA735 (Whirlwind Cave) in San Juan County, Utah. The two associated funerary objects are one bead group and one piece of ochre. The University of Utah exhumed the individuals and associated funerary objects in 1961 as part of the UCRBASP during an excavation paid for by Reclamation on land managed by BLM.

Human remains representing, at least, 15 individuals were removed from site 42SA736 (Bernheimer Alcove, Cave 1) in San Juan County, Utah. The 300 associated funerary objects are 33 ceramic sherds, 10 faunal bones, 24 squash fragments, seven vegetal sticks, 17 corncobs, 10 squash stems, one vegetal item, one worked vegetal twig, one piece of knotted bark, 10 vegetal knots, 22 quids, 54 pieces of cordage, 20 basketry fragments, two bone awls, 13 squashes, two textile or basket fragments, one hide fragment, one small wood spatula, two corn stalk fragments, three pieces of worked yucca, one corn husk, one bone tool, one projectile point, 10 pieces of folded yucca, corn (not found in collection), two pieces of hair cordage, one piece of gourd tissue, one wood fire poker, one open mesh mat, one knotted mat fragment, one hair bundle or cordage, two stone choppers, one corncob with kernels, two mat or basket fragments, three macro-botanical samples from processed coprolites, three bracelets, five beads, two shrouds, two shroud fragments, one textile, two wood fragments, one cradleboard, two robe fragments, one piece of impressed clay, one edge of a fur blanket, one bundle of yucca, one hide bag, one piece of juniper material, one juniper matting or blanket, one juniper vegetal artifact, one coiled basket, one textile fragment with red and black dyes, one incomplete hide bag, one cedar bark roll, one piece of cotton cloth, one ball of cotton, one human hair belt, one juniper bast covered with animal hide, one necklace, one twined-woven bag, one stone bead, and two bone tinklers. Four of the individuals and 14 of the associated funerary objects were exhumed on June 11, 1929, by Charles L. Bernheimer, Earl Morris, and John Wetherill during the 7th Bernheimer Expedition, and acquired by the American Museum of Natural History, on land managed by BLM. The University of Utah exhumed the other 11 individuals and 286 associated funerary objects in 1961 as part of the UCRBASP during an excavation paid for by Reclamation on land managed by BLM. Three of the associated funerary objects recovered by the University of Utah in 1961 are associated with individuals exhumed by the 7th Bernheimer Expedition in 1929.

Human remains representing, at least, one individual were removed from site 42SA772 (Cave 2) in San Juan County, Utah. The seven associated funerary objects are one split stick cut by stone tools, two round sticks with ends cut, one lot consisting of fragments of a yucca mat, one lot of hide trimmings, one lot of fur string, and one lot of plain jar fragments. The individual and associated funerary objects were exhumed in 1929 by Charles L. Bernheimer, Earl Morris, and John Wetherill during the 7th Bernheimer Expedition, and acquired by the American Museum of Natural History, on land managed by BLM.

Human remains representing, at least, four individuals were removed from site 42SA847 (Montezuma 1) in San Juan County, Utah. The 18 associated funerary objects are one faunal bone, one polished stone, and 16 ceramic sherds. The University of Utah exhumed the individuals and associated funerary objects in 1945 in an area that became part of the UCRBASP in the Glen Canyon area on land managed by BLM.

Human remains representing, at least, one individual were removed from site 42SA440 in San Juan County, Utah. No associated funerary objects are present. The University of Utah exhumed the individual in 1960 as part of the UCRBASP during an excavation paid for by Reclamation on land managed by BLM.

Human remains representing, at least, one individual were removed from site 42KA1077 in Kane County, Utah. No associated funerary objects are present. The University of Utah exhumed the individual in 1962 as part of the UCRBASP during an excavation paid for by Reclamation on land managed by BLM.

Human remains representing, at least, one individual were removed from site 42GA103 (Pantry Alcove) in Garfield County, Utah. No associated funerary objects are present. The University of Utah exhumed the individual in 1961 as part of the UCRBASP during an excavation paid for by Reclamation on land managed by BLM.

Human remains representing, at least, one individual were removed from site 42KA235 (Davis Pool Site) in Kane County, Utah. No associated funerary objects are present. The University of Utah exhumed the individual in 1957 as part of the UCRBASP during an excavation paid for by Reclamation on land withdrawn from BLM.

Human remains representing, at least, one individual were removed from site 42KA274 (Talus Ruin) in Kane County, Utah. No associated funerary objects are present. The University of Utah exhumed the individual in 1958 as part of the UCRBASP during an excavation paid for by Reclamation on land managed by BLM.

Human remains representing, at least, one individual were removed from site 42KA276 (Lizard Alcove) in Kane County, Utah. No associated funerary objects are present. The University of Utah exhumed the individual in 1958 as part of the UCRBASP during an excavation paid for by Reclamation on land withdrawn from BLM.

Human remains representing, at least, one individual were removed from site 42KA433 (Benchmark Cave) in Kane County, Utah. No associated funerary objects are present. The University of Utah exhumed the individual during excavations that occurred in 1958 and 1962 as part of the UCRBASP and paid for by Reclamation on land withdrawn from BLM.

Human remains representing, at least, one individual were removed from site 42SA377 (Fence Ruin) in San Juan County, Utah. No associated funerary objects are present. The University of Utah exhumed the individual in 1959 as part of the UCRBASP during an excavation paid for by Reclamation on land withdrawn from BLM.

Human remains representing, at least, one individual were removed from site 42SA583 (Echo Alcove, Echo Cave) in San Juan County, Utah. No associated funerary objects are present. The University of Utah exhumed the individual in 1959 as part of the UCRBASP during an excavation paid for by Reclamation on land withdrawn from BLM.

Human remains representing, at least, one individual were removed from site 42SA633 (Widow's Ledge) in San Juan County, Utah. No associated funerary objects are present. The University of Utah exhumed the individual in 1962 as part of the UCRBASP during an excavation paid for by Reclamation on land withdrawn from BLM.

Human remains representing, at least, one individual were removed from site 42SA598 (Defiance House) in San Juan County, Utah. No associated funerary objects are present. The University of Utah exhumed the individual in 1959 as part of the UCRBASP during an excavation paid for by Reclamation on land withdrawn from BLM.

Human remains representing, at least, one individual were removed from site 42SA413 (Forked Stick Alcove, Forked Stick Shelter) in San Juan County, Utah. No associated funerary objects are present. The University of Utah exhumed the individual in 1959 as part of the UCRBASP during an excavation paid for by Reclamation on land withdrawn from BLM.

Human remains representing, at least, one individual were removed from site 42GA288 (Triangle Cave) in Garfield County, Utah. No associated funerary objects are present. The University of Utah exhumed the individual in 1961 as part of the UCRBASP during an excavation paid for by Reclamation on land managed by BLM.

Human remains representing, at least, one individual were removed from site 42GA290 in Garfield County, Utah. No associated funerary objects are present. The University of Utah exhumed the individual in 1961 as part of the UCRBASP during an excavation paid for by Reclamation on land managed by BLM.

Human remains representing, at least, one individual were removed from site 42SA576 (Shady Alcove) in San Juan County, Utah. No associated funerary objects are present. The University of Utah exhumed the individual in 1959 as part of the UCRBASP during an excavation paid for by Reclamation on land withdrawn from BLM.

Human remains representing, at least, one individual were removed from site 42SA619 (Gourd House) in San Juan County, Utah. No associated funerary objects are present. The University of Utah exhumed the individual in 1960 as part of the UCRBASP during an excavation paid for by Reclamation on land withdrawn from BLM.

Human remains representing, at least, one individual were removed from site 42SA585 (Doll Ruin, Dollhouse Ruin) in San Juan County, Utah. No associated funerary objects are present. The University of Utah exhumed the individual in 1959 as part of the UCRBASP during an excavation paid for by Reclamation on land withdrawn from BLM.

Human remains representing, at least, one individual were removed from site 42GA4230 (formerly recorded as 42KA178 and 42GA178) (Gate's Roost), which museum records indicate is in Kane County, Utah. No associated funerary objects are present. The University of Utah exhumed the individual in 1957 as part of the UCRBASP during an excavation paid for by Reclamation on land managed by BLM.

Human remains representing, at least, one individual were removed from site 42GA286 (Circle Terrace) in Garfield County, Utah. No associated funerary objects are present. The University of Utah exhumed the individual in 1961 as part of the UCRBASP during an excavation paid for by Reclamation on land managed by BLM.

Human remains representing, at least, one individual were removed from site 42SA649 (NA3729) in San Juan County, Utah. No associated funerary objects are present. Gene Foster, an artist and self-taught archaeologist, collected the human remains from the surface within an alcove in 1953 during a reconnaissance survey before construction of the Glen Canyon Dam in the area of the UCRBASP on land managed by BLM. Gene Foster turned over the collections and site records to the Museum of Northern Arizona in 1958.

Human remains representing, at least, one individual were removed from site NA2681 in San Juan County, Utah. No associated funerary objects are present. The Museum of Northern Arizona exhumed the individual in 1959 as part of the UCRBASP during an excavation paid for by Reclamation on land managed by BLM.

Cultural Affiliation

Based on the information available and the results of consultation, cultural affiliation is clearly identified by the information available about the human remains and associated funerary objects described in this notice.

Determinations

The BLM and Reclamation have determined that:

• The human remains described in this notice represent the physical remains of at least 60 individuals of Native American ancestry.

• The 374 objects, or lots of objects, described in this notice are reasonably believed to have been placed intentionally with or near individual human remains at the time of death or later as part of the death rite or ceremony.

• There is a reasonable connection between the human remains and associated funerary objects described in this notice and the Colorado River Indian Tribes of the Colorado River Indian Reservation, Arizona and California; Confederated Tribes of the Goshute Reservation, Nevada and Utah; Eastern Shoshone Tribe of the Wind River Reservation, Wyoming; Fort Sill Apache Tribe of Oklahoma; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Mescalero Apache Tribe of the Mescalero Reservation, New Mexico; Navajo Nation, Arizona, New Mexico, & Utah; Northwestern Band of the Shoshone Nation; Ohkay Owingeh, New Mexico; Paiute Indian Tribe of Utah (Cedar Band of Paiutes, Koosharem Band of Paiutes, Indian Peaks Band of Paiutes, and Shivwits Band of Paiutes); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; San Juan Southern Paiute Tribe of Arizona; Santo Domingo Pueblo; Skull Valley Band of Goshute Indians of Utah; Southern Ute Indian Tribe of the Southern Ute Reservation, Colorado; Ute Indian Tribe of the Uintah & Ouray Reservation, Utah; Ute Mountain Ute Tribe; Yavapai-Apache Nation of the Camp Verde Indian Reservation, Arizona; Ysleta del Sur Pueblo; and the Zuni Tribe of the Zuni Reservation, New Mexico.

Requests for Repatriation

Written requests for repatriation of the human remains and associated funerary objects in this notice must be sent to the authorized representatives identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 28, 2025. If competing requests for repatriation are received, BLM and Reclamation must determine the most appropriate requestor prior to repatriation. Requests for joint repatriation of the human remains and associated funerary objects are considered a single request and not competing requests. BLM and Reclamation are responsible for sending a copy of this notice to the Indian Tribes and Native Hawaiian organizations identified in this notice.

Authority: Native American Graves Protection and Repatriation Act, 25 U.S.C. 3003, and the implementing regulations, 43 CFR 10.10.

Dated: March 17, 2025.
Melanie O'Brien,
Manager, National NAGPRA Program.

[FR Doc. 2025-05226 Filed 3-26-25; 8:45 am]

BILLING CODE 4312-52-P